DEPARTMENT OF TRANSPORTATION

Federal Aviation Administration

Notice of Extension of Public Comment Period on Draft Environmental Impact Statement (Draft EIS) for the Development of Extension of Runway 9R/27L and Other Associated Airport Projects at Fort Lauderdale-Hollywood International (FLL)

AGENCY: The lead Federal agency is the Federal Aviation Administration (FAA), Department of Transportation (DOT).

ACTION: Notice of extension of public comment period on Draft EIS.

SUMMARY: The FAA is issuing this notice to advise the public that the comment period for the Draft EIS has been extended to May 21, 2007. The originally published date for the close of the public comment period was May 14, 2007.

The comment period is being extended by one week because information has been provided to all interested parties that replaces some of the information previously issued in the Draft EIS. Specifically, Appendix G.1.B Hazardous Air Pollutant Evaluation has been replaced with a more current version then was inadvertently included in the Draft EIS issued on March 30, 2007.

Public Comment and Information Workshop/Public Hearing. The public comment period on the Draft EIS starts March 30, 2007 and will now end on May 21, 2007. There is no change in the date for the Public Information Workshop and Public Hearing that will be held on May 1, 2007 at the Greater Fort Lauderdale/Broward County Convention Center, 1950 Eisenhower Boulevard, Fort Lauderdale, FL 33316; Telephone: (954) 765-5900.

Comments can only be accepted with the full name and address of the individual commenting. Mail and fax comments are to be submitted to Ms. Virginia Lane of the FAA, at the address shown in FOR FURTHER INFORMATION CONTACT. E-mail comments should be sent to FLL-EIScomments@landrum-brown.com). All comments must be postmarked, faxed or e-mailed no later than midnight, Monday, May 21, 2007. The Draft EIS may be reviewed for comment during regular business hours at the following location:

1. Broward County Government Center, 115 S. Andrews Avenue, Fort Lauderdale, FL 33301 (Telephone: 954-357-7000).

2. Broward County Library—Main Branch, 100 S. Andrews Avenue, Fort Lauderdale, FL 33301 (Telephone: 954-354-7444).

3. Broward County Library—Fort Lauderdale Branch, 1300 E. Sunrise Boulevard, Fort Lauderdale, FL 3304 (Telephone: 954-765-4263).

4. Broward County Library—Hollywood Branch, 2600 Hollywood Boulevard, Hollywood, FL 33020 (Telephone: 954-926-2430).

5. Broward County Library—Dania Breach Paul DeMaio Branch, 255 E. Dania Beach Boulevard, Dania Beach, FL 33004 (Telephone: 954-926-2420).

6. Broward County Library—Davie/Cooper City Branch, 4600 SW 82nd Avenue, Davie, FL 33328 (Telephone: 954-680-0050).

8. Broward County Library—Stirling Road Branch, 3151 Stirling Road, Hollywood, FL 33021 (Telephone: 954-985-2689).

9. Broward County Library—Pembroke Pines/Walter C. Young Branch, 955 NW. 129th Avenue, Pembroke Pines, FL 33025 (Telephone: 954-437-2635).

10. Broward County Library—West Regional Branch, 8601 W. Broward Boulevard, Plantation, FL 33324 (Telephone: 954-831-3300).

11. Broward County Library—Sunrise Dan Pearl Branch, 10500 W. Oakland Park Boulevard, Sunrise, FL 33351 (Telephone: 954-749-2521).

12. Fort Lauderdale-Hollywood International Airport, Public Outreach Trailer, Broward County Aviation Department, 550 Northwest 10th Street, Dania Beach, FL 33315 (Telephone: 954-359-6977).

13. Broward County Administration Office, Broward County Governmental Center, 115 S. Andrews Avenue, Room 409, Fort Lauderdale, FL 33301 (Telephone: 954-357-7000).

14. Broward County Aviation Department, 320 Terminal Drive, Fort Lauderdale, FL 33315 (Telephone: 954-359-6118).

Broward County will be providing an electronic copy of the Draft EIS on the Broward County web site at http://www.broward.org/airport/. A CD version of the Draft EIS document will also be available during regular business hours at the following public locations:

15. City of Lauderhill, Lauderhill City Hall, 2000 City Hall Drive, Lauderhill, FL 33313 (Telephone: 954-739-0100).

16. City of Pembroke Pines, Pembroke Pines City Hall, 10100 Pines Boulevard, Pembroke Pines, FL 33025 (Telephone: 954-431-4500).

17. City of Cooper City, Cooper City Hall, 9090 SW. 50th Place, Cooper City, FL 33328 (Telephone: 954-434-4300).

18. City of Sunrise, 10770 W. Oakland Park Blvd., Sunrise, FL 33351 (Telephone: 954-741-2580).

19. City of Fort Lauderdale, 100 N. Andrews Avenue, Fort Lauderdale, FL 33301 (Telephone: 954-761-5000).

20. City of Plantation, Plantation City Hall, 400 NW. 73rd Avenue, Plantation, FL 33317 (Telephone: 954-797-2221).

21. City of Hollywood, Hollywood City Hall, 2600 Hollywood Boulevard, Hollywood, FL 33020 (Telephone: 954-921-3473).

22. City of Dania Beach, Dania Beach City Hall, 100 W. Dania Beach Boulevard, Dania Beach, FL 33004 (Telephone: 954-924-3600).

23. Town of Davie, Davie Town Hall, 6591 SW 45th Street, Davie, FL 33314 (Telephone: 954-797-1000).

SUPPLEMENTARY INFORMATION: The FAA encourages all interested parties to provide comments concerning the scope and content of the Draft EIS. Comments should be as specific as possible. Comments should address the contents of the Draft EIS, such as the analysis of potential environmental impacts, the adequacy of the proposed action to meet the stated need, or the merits of the various alternatives. Reviewers should organize their participation to make it meaningful and effective in making the FAA aware of the reviewer's interests and concerns. Reviewers should use quotations, page references, and other specific citations to the text of the Draft EIS and related documents. This commenting procedure is intended to ensure that substantive comments and concerns are made available to the FAA in a timely and effective manner, so that the FAA has an opportunity to address them.

FOR FURTHER INFORMATION CONTACT: Ms. Virginia Lane, FAA Orlando Airports District Office, 5950 Hazeltine National Drive, Orlando, Florida 32822-5024. Telephone: (407) 812-6331, Fax: (407) 812-6978.

Issued in Orlando, Florida, on April 6, 2007.
W. Dean Stringer,
Manager, FAA Orlando Airports District Office.

[FR Doc. 07-1836 Filed 4-12-07; 8:45 am]

BILLING CODE 4910-13-M